SECURITIES AND EXCHANGE COMMISSION

[File No. 500-1]

In the Matter of ChitrChatr Communications Inc.; Order of Suspension of Trading

March 20, 2015.

It appears to the Securities and Exchange Commission that there is a lack of current and accurate information concerning the securities of ChitrChatr Communications Inc. because of questions regarding recent volatile trading activity and questions regarding the adequacy and accuracy of information in a company press release dated January 21, 2015 relating to the company's financing and the source of that financing. ChitrChatr Communications Inc. is a British Columbia corporation with its principal place of business located in Calgary, Alberta. Its stock is quoted on OTC Link, operated by OTC Markets Group Inc., under the ticker: CHICF.

The Commission is of the opinion that the public interest and the protection of investors require a suspension of trading in the securities of the above-listed company.

Therefore, it is ordered, pursuant to Section 12(k) of the Securities Exchange Act of 1934, that trading in the securities of the above-listed company is suspended for the period from 9:30 a.m. EDT on March 20, 2015, through 11:59 p.m. EDT on April 2, 2015.

By the Commission.
Jill M. Peterson,
Assistant Secretary.

[FR Doc. 2015-06796 Filed 3-20-15; 11:15 am]

BILLING CODE 8011-01-P